DEPARTMENT OF ENERGY

Federal Energy Regulatory Commission

[Project Nos. 2942-005, 2931-002, 2941-002, 2932-003, and 2897-003]

S.D. Warren Company; Notice of Availability of Final Environmental Impact Statement

June 27, 2002.

In accordance with the National Environmental Policy Act of 1969 and the Federal Energy Regulatory Commission's (FERC or Commission) regulations, 18 CFR Part 380 (Order No. 486, 52 FR 47897), the Office of Energy Projects staff has reviewed the applications for new licenses for the Dundee, Gambo, Little Falls, Mallison Falls, and the Saccarappa hydroelectric projects, and has prepared a Final Environmental Impact Statement (FEIS) for the projects. In the FEIS, the Commission's staff has analyzed the potential environmental impacts of the existing projects and has recommended that approval of the projects, with appropriate environmental protection measures, would be in the public interest.

Copies of the FEIS are available for review in the Public Reference Branch, Room 2-A, of the Commission's offices at 888 First Street, NE., Washington, DC 20426.

Linwood A. Watson, Jr.,
Deputy Secretary.

[FR Doc. 02-16802 Filed 7-3-02; 8:45 am]

BILLING CODE 6717-01-P